DEPARTMENT OF AGRICULTURE

Forest Service

Information Collection; Federal and Non-Federal Financial Assistant Instruments

AGENCY: Forest Service, USDA.

ACTION: Notice; request for comment.

SUMMARY: In accordance with the Paperwork Reduction Act of 1995, the Forest Service is seeking comments from all interested individuals and organizations on the extension with revision of a currently approved information collection, Federal and Non-Federal Financial Assistant Instruments.

DATES: Comments must be received in writing on or before June 27, 2022 to be assured of consideration. Comments received after that date will be considered to the extent practicable.

ADDRESSES: Comments concerning this notice should be addressed to Gavin Smith, Policy Analyst, Grants and Agreements, G & A Policy, 201 14th Street Mail Stop 1138, SW Washington, DC 20227 and telephone 541-975-4730.

Comments also may be submitted via facsimile to by email to: SM.FS.wo_ga_policy@usda.gov.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at 201 14th Street Mail Stop 1138, SW Washington, DC 20227 during normal business hours. Visitors are encouraged to call ahead to (202) 720-6270 to facilitate entry to the building. The public may request an electronic copy of the draft supporting statement and/or any comments received be sent via return email. Requests should be emailed to SM.FS.wo_ga_policy@usda.gov.

FOR FURTHER INFORMATION CONTACT: Comments may be submitted to, WO Office of Grants and Agreements, G&A Policy, email SM.FS.wo_ga_policy@usda.gov. Individuals who use telecommunication devices for the deaf (TDD) may call the Federal Information Relay Service (FIRS) at 1-800-877-8339 twenty-four hours a day, every day of the year, including holidays.

SUPPLEMENTARY INFORMATION: Title: Federal and Non-Federal Financial Assistant Instruments.

OMB Number: 0596-0217.

Expiration Date of Approval: February 28, 2023.

Type of Request: Extension with revisions of a currently approved information collection.

Abstract: In order to perform specific Forest Service activities, Congress created several authorities as well as new authorities increasing the total burden hours to assist the Agency in carrying out its mission. The Forest Service issues partnership agreements under specific authorities exempt from the Federal Grants and Cooperative Agreements Act (FGCAA). This collection is for existing forms as well as a new form to supplement and ultimately phase out the older forms by the next collection period that will be used to enter into the following agreement types by the Forest Service:

(1) Participating Agreements (replaces FS-1500-16 and 16A through 16G);

(2) Cost-Reimbursable Agreement (replaces FS-1500-12);

(3) Joint Venture Agreement (replaces FS-1500-14 and 14A);

(4) Cooperative Research and Development Agreements (replaces FS1500-13 through 13B); and,

(5) Challenge Cost-Share Agreement (replaces FS-1500-10 and 10A through 10C).

(6) Stewardship Agreements (replaces FS-1500-21, FS-1500-21A, through FS-1500-21D).

(7) Good Neighbor Agreements (replaces FS-1500-36, FS-1500-36A, FS-1500-36B).

(8) Domestic Grants (Letter).

(9) Fixed Amount Awards (Letter).

(10) International Grants (Letter).

(11) International Cooperative Agreements (Letter).

(12) Cooperative Agreements (Letter).

In addition to Federal Financial Assistance (FFA), Congress created specific authorizations for acts outside the scope of the FGCAA. Appropriations language was developed to convey authority for the Forest Service to enter into relationships that are outside the scope of the FGCAA. The Forest Service implements these authorizations using instruments such as collection agreements, FGCAA exempted agreements, memorandums of understanding, and other agreements which mutually benefit participating parties. These instruments fall outside the scope of the Federal Acquisition Regulations (FAR) and often require financial plans and statements of work. Forest Service employees collect information from cooperating parties from the pre-award to the closeout stage via telephone calls, emails, postal mail, and person-to-person meetings to create, develop, and administer these funded and non-funded agreements. The multiple means for respondents to communicate their responses include forms, non-forms, electronic documents, face-to-face, telephone, and internet. The scope of information collected varies; however, it typically includes the project type, project scope, financial plan, statement of work, and cooperator's business information.

The Forest Service would not be able to create, develop, and administer these funded and non-funded agreements without the collected information. The Agency would also be unable to develop or monitor projects, make or receive payments, or identify financial and accounting errors.

Estimate of Annual Burden: 1 to 4 hours annually per person.

Type of Respondents: Non-profit and for profit institutions; institutions of higher education; State, local, and Native American tribal governments, individuals; foreign governments; and organizations.

Estimated Annual Number of Respondents for New Form: 1,016.

Estimated Annual Number of Responses per Respondent: 1.

Estimated Total Annual Burden on Respondents: 3,048 hours.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Christopher Coppenbarger,
Director, Grants and Agreement Policy.

[FR Doc. 2022-09105 Filed 4-27-22; 8:45 am]

BILLING CODE 3411-15-P